DEPARTMENT OF THE TREASURY

Submission for OMB Review; Comment Request

May 22, 2014.

The Department of the Treasury will submit the following information collection requests to the Office of Management and Budget (OMB) for review and clearance in accordance with the Paperwork Reduction Act of 1995, Public Law 104-13, on or after the date of publication of this notice.

DATES: Comments should be received on or before June 30, 2014 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request may be found at www.reginfo.gov.

Alcohol and Tobacco Tax and Trade Bureau (TTB)

OMB Number: 1513-0014.

Type of Review: Extension without change of a currently approved collection.

Title: Power of Attorney.

Form: TTB F 5000.8.

Abstract: TTB F 5000.8 delegates the authority to a specific individual to sign documents on behalf of an applicant or principal. Title 26 U.S.C. 6061 authorizes that individuals signing returns, statements, or other documents required to be filed by industry members under the provisions of the IRC or the FAA Act, are to have that authority on file with TTB.

Affected Public: Private Sector: Businesses or other for-profits.

Estimated Annual Burden Hours: 3,250.

OMB Number: 1513-0044.

Type of Review: Extension without change of a currently approved collection.

Title: Notice of Change in Status of Plant.

Abstract: This change notice is necessary to show the use of the distilled spirits plant (DSP) premises for other activities or by alternating proprietors. It describes proprietor's use of plant premises and other information to show that the change in plant status is in conformity with laws and regulations.

Affected Public: Private Sector: Businesses or other for-profits.

Estimated Annual Burden Hours: 500.

OMB Number: 1513-0050.

Type of Review: Extension without change of a currently approved collection.

Title: Tax Deferral Bond—Distilled Spirits (Puerto Rico).

Form: TTB F 5110.50.

Abstract: TTB F 5110.50 is the bond to secure payment of excise taxes on distilled spirits shipped from Puerto Rico to the U.S. on deferral of the tax. The form identifies the principal, the surety, purpose of bond, and allocation of the penal sum among the principal's locations.

Affected Public: Private Sector: Businesses or other for-profits.

Estimated Annual Burden Hours: 10.

OMB Number: 1513-0069.

Type of Review: Extension without change of a currently approved collection.

Title: Tobacco Products Manufacturers—Supporting Records for Removals for the Use of the United States.

Abstract: Tobacco products and cigarette papers and tubes are taxed under the Internal Revenue Code of 1986, as amended. These items can be removed without the payment of tax for the use of the United States. In order to safeguard taxes, tobacco products manufacturers are required to maintain a system of records designed to establish accountability over the tobacco products and cigarette papers and tubes produced and removed. Records must be retained by the manufacturer for 3 years following the close of the year covered by the record and must be made available for inspection by TTB upon request.

Affected Public: Private Sector: Businesses or other for-profits.

Estimated Annual Burden Hours: 505.

OMB Number: 1513-0128.

Type of Review: Extension without change of a currently approved collection.

Title: Records to Support Tax Free and Tax Overpayment Sales of Firearms and Ammunition.

Forms: TTB F 5600.33, 5600.34, 5600.35, 5600.36, and 5600.37.

Abstract: Industry Members are required to maintain certain records in accordance with regulations. TTB offers forms that ensure that all of the information required by regulations is accounted for, when completed. The information collected on the forms serve as a record to justify the sales to exempt users, exportation, or use for further manufacture of articles.

Affected Public: Private Sector: Businesses or other for-profits; State, Local, and Tribal Governments.

Estimated Annual Burden Hours: 52,500.

Dawn D. Wolfgang,
Treasury PRA Clearance Officer.

[FR Doc. 2014-12414 Filed 5-28-14; 8:45 am]

BILLING CODE 4810-31-P